DEPARTMENT OF AGRICULTURE

Forest Service

Eastern Idaho Resource Advisory Committee, Caribou-Targhee National Forest, Idaho Falls, Idaho

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forests' Eastern Idaho Resource Advisory Committee will meet Thursday, September 13, 2007 in Idaho Falls for a business meeting. The meeting is open to the public.

DATES: The business meeting will be held on September 13, 2007 from 9 a.m. to 11 a.m.

ADDRESSES: The meeting location is the Caribou-Targhee National Forest Headquarters Office, 1405 Hollipark Drive, Idaho Falls, Idaho 83402.

FOR FURTHER INFORMATION CONTACT: Larry Timchak, Caribou-Targhee National Forest Supervisor and Designated Federal Officer, at (208) 524-7500.

SUPPLEMENTARY INFORMATION: The business meeting on September 13, 2007, begins at 9 a.m., at the Caribou-Targhee National Forest Headquarters Office, 1405 Hollipark Drive, Idaho Falls, Idaho. Agenda topics will include approving projects for 2008 funding, and then heading into the field for a field trip to view past projects completed.

Dated: July 20, 2007.
Lawrence A. Timchak,
Caribou-Targhee Forest Supervisor.

[FR Doc. 07-3654 Filed 7-25-07; 8:45 am]

BILLING CODE 3410-11-M